DEPARTMENT OF HEALTH AND HUMAN SERVICES

Centers for Disease Control and Prevention

Government-Owned Inventions; Availability for Licensing and Cooperative Research and Development Agreements (CRADAs)

AGENCY: Centers for Disease Control and Prevention, Technology Transfer Office, Department of Health and Human Services.

ACTION: Notice.

SUMMARY: The invention named in this notice is owned by agencies of the United States Government and is available for licensing in the United States (U.S.) in accordance with 35 U.S.C. 207, and is available for cooperative research and development agreements (CRADAs) in accordance with 15 U.S.C. 3710a, to achieve expeditious commercialization of results of federally funded research and development. A provisional patent application has been filed. In addition, the invention is protected by copyright registration. A Patent Cooperation Treaty (PCT) application and national stage foreign patent applications claiming priority to the Patent Cooperation Treaty (PCT) application are expected to be filed within the appropriate deadlines to extend market coverage for U.S. companies and may also be available for licensing.

ADDRESSES: Licensing and CRADA information, and information related to the technology listed below, may be obtained by writing to Suzanne Seavello Shope, J.D., Technology Licensing and Marketing Scientist, Technology Transfer Office, Centers for Disease Control and Prevention (CDC), Mailstop K-79, 4770 Buford Highway, Atlanta, GA 30341, telephone (770)488-8613; facsimile (770)488-8615; or e-mail sshope@cdc.gov. A signed Confidential Disclosure Agreement (available under Forms at www.cdc.gov/tto) will be required to receive copies of unpublished patent applications and other information.

Software

Computer Software for Automating Permeation Testing Data Analysis

Data analysis for chemical protective clothing (CPC) permeation testing involves a number of equations and experimental factors. Experimenter bias and possible calculation errors are critical issues when determining permeation parameters. In order to compare results among different laboratories and manufacturers, the normalized breakthrough time is required since it is not dependent on the detection limits of the analytical system. However, calculating the normalized breakthrough time requires the use of polynomial curve fitting, polynomial derivatives, and quadratic equations. Solving these equations, without a computer program, would be very difficult. Therefore, a unique computer program using Microsoft Visual C++, referred to as “Permeation Calculator”, has been developed at the National Institute for Occupational Safety and Health/National Personal Protective Technology Laboratory (NIOSH/NPPTL) to calculate the permeation parameters. The program imports data and then calculates the permeation parameters; including breakthrough detection time, ASTM normalized breakthrough time, European normalized breakthrough time, and steady-state permeation rate. The calculation of these parameters is based on a series of strategies, approaches, and algorithms. At the end, the program displays all the permeation parameters as a report file that can be saved as a Microsoft Excel file or a text file. The program reduces the time spent on data analysis from hours to seconds.

Inventors: Pengfei Gao and Beth Tomasovic.

CDC Ref.#: I-011-05.

James D. Seligman,
Chief Information Officer, Centers for Disease Control and Prevention.

[FR Doc. E6-3268 Filed 3-7-06; 8:45 am]

BILLING CODE 4163-18-P